Proclamation 8652 of April 8, 2011

National Former Prisoner of War Recognition Day, 2011

By the President of the United States of America

A Proclamation

The men and women of the United States Armed Forces have faced innumerable challenges while dedicating their lives to the defense of our liberties. Contending with perilous combat zones, deployment overseas, and long absences from home, generations of service members have answered America’s call in its hour of need. On National Former Prisoner of War Recognition Day, a grateful Nation acknowledges a debt that can never be repaid and honors those who faced the most unfathomable of challenges with the utmost bravery and conviction.

We pay solemn tribute to those American sons and daughters who have endured unimaginable hardship at the hands of foreign captors. Often faced with deplorable physical and mental treatment, the tremendous personal sacrifice of these warriors exemplifies the highest of ideals—honor, duty, and selfless service. We also pay tribute to the families and friends of these service members, who embody the same qualities of bravery and sacrifice exhibited by their loved ones, and bear a burden silently measured in sleepless nights and missed birthdays.

America cherishes those veterans who have returned home after imprisonment on foreign soil. We remain dedicated to fulfilling the sacred trust to care for all who have borne the battle. This day and every day, each of these heroes holds a special place of honor in our hearts and the well-earned support of a thankful Nation.

NOW, THEREFORE, I, BARACK OBAMA, President of the United States of America, by virtue of the authority vested in me by the Constitution and the laws of the United States, do hereby proclaim April 9, 2011, as National Former Prisoner of War Recognition Day. I call upon all Americans to observe this day of remembrance by honoring our service members, veterans, and all American prisoners of war. I also call upon Federal, State, and local government officials and organizations to observe this day with appropriate ceremonies and activities.

IN WITNESS WHEREOF, I have hereunto set my hand this eighth day of April, in the year of our Lord two thousand eleven, and of the Independence of the United States of America the two hundred and thirty-fifth.

[FR Doc. 2011-9146

Filed 4-12-11; 11:15 am]

Billing code 3195-W1-P